DEPARTMENT OF COMMERCE

Bureau of Industry and Security

Emerging Technology Technical Advisory Committee

AGENCY: Bureau of Industry and Security, U.S. Department of Commerce.

ACTION: Notice of partially closed meeting.

SUMMARY: The Emerging Technology Technical Advisory Committee (ETTAC) advises and assists the Secretary of Commerce and other Federal officials on matters related to export control policies; the ETTAC will meet to review and discuss these matters. The meeting will be partially closed to the public pursuant to the exemptions under the Federal Advisory Committee Act (FACA) and the Government in the Sunshine Act.

DATES: The meeting will be held on April 25, 2025, from 9:00 a.m. to 4:00 p.m. Eastern Time (all times are Eastern Time). The open session will start at 9:00 a.m. and end at approximately 10:00 a.m. The closed session will start at approximately 10:00 a.m. and end no later than 4:00 p.m. Individuals requiring special accommodations to access the open session should contact TAC@bis.doc.gov no later than 11:59 p.m. on April 18, 2025, so that appropriate arrangements can be made. Individuals interested in participating virtually should contact TAC@bis.doc.gov no later than 11:59 p.m. on April 23, 2025.

ADDRESSES: The meeting will be held in Room 3884 of the Herbert C. Hoover Building, 1401 Constitution Avenue NW, Washington, DC (enter through the Main Entrance on 14th Street between Constitution and Pennsylvania Avenues). The open session will be accessible via teleconference.

FOR FURTHER INFORMATION CONTACT: Kevin Coyne, Committee Liaison Officer, Bureau of Industry and Security, U.S. Department of Commerce, TAC@bis.doc.gov, (202) 482-4933.

SUPPLEMENTARY INFORMATION:

Background

The Emerging Technology Technical Advisory Committee (ETTAC) advises and assists the Secretary of Commerce (Secretary) and other Federal officials and agencies with respect to actions designed to carry out the policy set forth in Section 1752 of the Export Control Reform Act. The purpose of the meeting is to have the ETTAC members and U.S. Government representatives mutually review the updated technical data and policy-driving information that has been gathered.

Agenda

The open session will include working group reports, open business discussions, and industry presentations. The closed session will include discussion of matters determined to be exempt from the open meeting and public participation requirements found in sections 1009(a)(1) and 1009(a)(3) of the Federal Advisory Committee Act (FACA) (5 U.S.C. 1001-1014).

Open Session Attendance

The open session will be accessible via teleconference. Registration in advance is required to receive the meeting invite for virtual attendance. Individuals interested in participating virtually should contact TAC@bis.doc.gov no later than 11:59 p.m. Eastern Time on April 23, 2025. A limited number of seats will be available for members of the public to attend the open session in person on a first-come basis. Reservations to attend in person are not accepted. Registration in advance is not required for in-person attendance, but you will be asked to sign an attendance log when you arrive.

Special Accommodations

Individuals requiring special accommodations to access the open session should contact TAC@bis.doc.gov no later than 11:59 p.m. Eastern Time on April 18, 2025, so that appropriate arrangements can be made.

Public Participation

To the extent that time permits during the open session, members of the public may present oral statements to the ETTAC. The public may submit written statements at any time before or after the meeting. However, to facilitate distribution of materials to the ETTAC members, the ETTAC suggests that members of the public forward their materials prior to the meeting via email to TAC@bis.doc.gov. Material submitted by the public will be made public; therefore, submissions should not contain confidential information. Meeting materials from the open session will be accessible via the Technical Advisory Committee (TAC) website at: https://tac.bis.doc.gov, within 30 days after the meeting.

Closure Determination

The Deputy Assistant Secretary for Administration, performing the non-exclusive functions and duties of the Chief Financial Officer and Assistant Secretary for Administration, with the concurrence of the delegate of the General Counsel, formally determined, pursuant to 5 U.S.C. 1009(d), that the portion of the meeting dealing with pre-decisional changes to the Commerce Control List and the U.S. export control policies shall be exempt from the provisions relating to public meetings found in 5 U.S.C. 1009(a)(1) and 1009(a)(3). The remaining portions of the meeting will be open to the public. The exemption is authorized by section 1009(d) of the FACA, which permits the closure of advisory committee meetings, or portions thereof, if the head of the agency to which the advisory committee reports determines such meetings may be closed to the public in accordance with subsection (c) of the Government in the Sunshine Act (5 U.S.C. 552b(c)). In this case, the applicable provisions of 5 U.S.C. 552b(c) are subsection 552b(c)(4), which permits closure to protect trade secrets and commercial or financial information that is privileged or confidential, and subsection 552b(c)(9)(B), which permits closure to protect information that would be likely to disclose information the premature disclosure of which would be likely to significantly frustrate implementation of a proposed agency action. The closed session of the meeting will involve committee discussions and guidance regarding U.S. Government strategies and policies.

Meeting Cancellation

If the meeting is cancelled, a cancellation notice will be posted on the TAC website at: https://tac.bis.doc.gov.

Kevin Coyne,
Committee Liaison Officer.

[FR Doc. 2025-06010 Filed 4-7-25; 8:45 am]

BILLING CODE 3510-JT-P